INTERNATIONAL TRADE COMMISSION

[Investigation Nos. 701-TA-253 and 731-TA-132, 252, 271, 273, 409, 410, 532-534, and 536 (Second Review)]

Certain Pipe and Tube From Argentina, Brazil, India, Korea, Mexico, Taiwan, Thailand, and Turkey

Determinations

On the basis of the record ¹ developed in the subject five-year reviews, the United States International Trade Commission (Commission) determines, pursuant to section 751(c) of the Tariff Act of 1930 (19 U.S.C. 1675(c)) (the Act), that revocation of the countervailing duty order on circular welded pipe and tube from Turkey; the antidumping duty orders on circular welded pipe and tube from Brazil, India, Korea, Mexico, Taiwan, Thailand, and Turkey; and the antidumping duty order on light-walled rectangular pipe and tube from Taiwan would be likely to lead to continuation or recurrence of material injury to an industry in the United States within a reasonably foreseeable time. The Commission further determines that revocation of the antidumping duty order on light-walled rectangular pipe and tube from Argentina would not be likely to lead to continuation or recurrence of material injury to an industry in the United States within a reasonably foreseeable time.²

¹ The record is defined in sec. 207.2(f) of the Commission's Rules of Practice and Procedure (19 CFR 207.2(f)).

² Commissioners Stephen Koplan and Charlotte R. Lane dissenting.

Background

The Commission instituted these reviews on July 1, 2005 (65 FR 38204) and determined on October 4, 2005 that it would conduct full reviews (70 FR 60367, October 17, 2005). Notice of the scheduling of the Commission's reviews and of a public hearing to be held in connection therewith was given by posting copies of the notice in the Office of the Secretary, U.S. International Trade Commission, Washington, DC, and by publishing the notice in the Federal Register on December 5, 2005 (70 FR 72467).³ The hearing was held in Washington, DC, on May 9, 2006, and all persons who requested the opportunity were permitted to appear in person or by counsel.

³ The Commission revised its schedule in these reviews on June 2, 2006 (71 FR 33484, June 9, 2006).

The Commission transmitted its determinations in these reviews to the Secretary of Commerce on July 18, 2006. The views of the Commission are contained in USITC Publication 3867 (July 2006), entitled Certain Pipe and Tube from Argentina, Brazil, India, Korea, Mexico, Taiwan, Thailand, and Turkey (Inv. Nos. 701-TA-253 and 731-TA-132, 252, 271, 409, 410, 532-534, and 536 (Second Review)).

Issued: July 18, 2006.
By order of the Commission.
Marilyn R. Abbott,
Secretary to the Commission.

[FR Doc. E6-11755 Filed 7-24-06; 8:45 am]

BILLING CODE 7020-02-P